DEPARTMENT OF LABOR

Employment and Training Administration

[TA-W-64,792]

Aetrium Corporation, Corporate Division, North St. Paul, MN; Notice of Termination of Investigation

Pursuant to Section 221 of the Trade Act of 1974, as amended, an investigation was initiated on December 31, 2008 in response to a petition filed by a State agency representative on behalf of workers of Aetrium Corporation, Corporate Division, North St. Paul, Minnesota.

The petitioner has requested that the petition be withdrawn. Consequently, the investigation has been terminated.

Signed at Washington, DC, this 17th day of March 2009.
Linda G. Poole,
Certifying Officer, Division of Trade Adjustment Assistance.

[FR Doc. E9-7124 Filed 3-30-09; 8:45 am]

BILLING CODE 4510-FN-P